DEPARTMENT OF TRANSPORTATION

Federal Aviation Administration

14 CFR Part 71

[Docket No. FAA-2015-6751; Airspace Docket No. 15-AWP-18]

Amendment of Class E Airspace; Arcata, CA; Fortuna, CA; and Establishment of Class E Airspace; Arcata, CA, and Eureka, CA

AGENCY: Federal Aviation Administration (FAA), DOT.

ACTION: Final rule.

SUMMARY: This action modifies Class E surface area airspace, modifies Class E airspace extending upward from 700 feet, and establishes Class E airspace designated as an extension at Arcata Airport, Arcata, CA. The action also modifies Class E airspace extending upward from 700 feet at Rohnerville Airport, Fortuna, CA, and establishes stand-alone Class E airspace extending upward from 700 feet at Murray Field Airport, Eureka, CA, to accommodate airspace redesign for the safety and management of Instrument Flight Rules (IFR) operations within the National Airspace System. Additionally, this action updates the geographic coordinates of these airports.

DATES: Effective 0901 UTC, October 12, 2017. The Director of the Federal Register approves this incorporation by reference action under Title 1, Code of Federal Regulations, part 51, subject to the annual revision of FAA Order 7400.11 and publication of conforming amendments.

ADDRESSES: FAA Order 7400.11A, Airspace Designations and Reporting Points, and subsequent amendments can be viewed online at http://www.faa.gov/air_traffic/publications/. For further information, you can contact the Airspace Policy Group, Federal Aviation Administration, 800 Independence Avenue SW., Washington, DC, 20591; telephone: (202) 267-8783. The Order is also available for inspection at the National Archives and Records Administration (NARA). For information on the availability of this material at NARA, call (202) 741-6030, or go to http://www.archives.gov/federal_register/code_of_federal-regulations/ibr_locations.html.

FAA Order 7400.11, Airspace Designations and Reporting Points, is published yearly and effective on September 15.

FOR FURTHER INFORMATION CONTACT: Tom Clark, Federal Aviation Administration, Operations Support Group, Western Service Center, 1601 Lind Avenue SW., Renton, WA 98057; telephone (425) 203-4511.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it amends Class E airspace at Arcata Airport, Arcata, CA, and Rohnerville Airport, Fortuna, CA, and establishes Class E airspace at Murray Field, Eureka, CA.

History

On March 28, 2017, the FAA published in the Federal Register (82 FR 15306) Docket FAA-2015-6751 a notice of proposed rulemaking (NPRM) to amend Class E airspace at Arcata Airport, Arcata, CA; and Rohnerville Airport, Fortuna, CA, and establish Class E airspace at Arcata Airport, Arcata, CA; and Murray Field Airport, Eureka, CA. Interested parties were invited to participate in this rulemaking effort by submitting written comments on the proposal to the FAA. No comments were received.

Class E airspace designations are published in paragraph 6002, 6004, and 6005, respectively, of FAA Order 7400.11A dated August 3, 2016, and effective September 15, 2016, which is incorporated by reference in 14 CFR 71.1. The Class E airspace designations listed in this document will be published subsequently in the Order.

Availability and Summary of Documents for Incorporation by Reference

This document amends FAA Order 7400.11A, Airspace Designations and Reporting Points, dated August 3, 2016, and effective September 15, 2016. FAA Order 7400.11A is publicly available as listed in the ADDRESSES section of this document. FAA Order 7400.11A lists Class A, B, C, D, and E airspace areas, air traffic service routes, and reporting points.

The Rule

This action amends Title 14 Code of Federal Regulations (14 CFR) part 71 by modifying Class E surface area airspace at Arcata Airport, Arcata, CA, and Rohnerville Airport, Fortuna, CA, and establishing Class E airspace designated as an extension at Arcata Airport. Also, stand-alone Class E airspace extending upward from 700 feet above the surface is established at Murray Field Airport, Eureka, CA. This airspace redesign is necessary for the safety and management of IFR operations at these airports, and for efficiency within the National Airspace System.

Class E surface area airspace is amended at Arcata Airport, Arcata, CA, to within a 4.1 mile radius (increased from a 4-mile radius) of the airport; and the Abeta NDB is removed from the description as it was decommissioned and no longer needed.

Class E airspace designated as an extension to a Class D or Class E surface area is established within 2.9 miles each side of the 153° bearing from Arcata Airport extending from the 4.1-mile radius to 10.5 miles southeast of the airport.

Class E airspace extending upward from 700 feet above the surface is reduced to within a 7-mile radius of Arcata Airport, with a segment 4.2 miles wide (2.1 miles each side of the 153° bearing) extending from the 7-mile radius of the airport to 14.1 miles southeast of the airport. Class E airspace extending upward from 1,200 feet above the surface at Arcata Airport is removed, since this airspace is wholly contained within the Rogue Valley Class E en route airspace area.

Class E airspace extending upward from 700 feet above the surface at Murray Field Airport, Eureka, CA, is established within a 6.3-mile radius of Murray Field Airport, with a segment 6.3 miles wide extending to 23 miles southwest of the airport. This airspace area specifically supports IFR operations at Eureka, CA.

Class E airspace extending upward from 700 feet above the surface at Rohnerville Airport, Fortuna, CA, is amended to within a 2.7-mile radius (from a 6.5-mile radius) of Rohnerville Airport, with segments extending 7 miles northwest, 5.2 miles west, and 6.1 miles southeast of the airport. Class E airspace upward from 1,200 feet above the surface at Rohnerville Airport is removed since this airspace is wholly contained within the Rogue Valley Class E en route airspace area.

This action also updates the geographic coordinates for the amended airports in the associated airspace areas to be in concert with the FAA's aeronautical database.

Regulatory Notices and Analyses

The FAA has determined that this regulation only involves an established body of technical regulations for which frequent and routine amendments are necessary to keep them operationally current, is non-controversial and unlikely to result in adverse or negative comments. It, therefore: (1) Is not a “significant regulatory action” under Executive Order 12866; (2) is not a “significant rule” under DOT Regulatory Policies and Procedures (44 FR 11034; February 26, 1979); and (3) does not warrant preparation of a Regulatory Evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5a. This airspace action is not expected to cause any potentially significant environmental impacts, and no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11A, Airspace Designations and Reporting Points, dated August 3, 2016, and effective September 15, 2016, is amended as follows:

Paragraph 6002 Class E Airspace Designated as Surface Areas.

* * * * *

AWP CA E2 Arcata, CA [Modified]

Arcata Airport, CA

(Lat. 40°58′40″ N., long. 124°06′31″ W.)

That airspace within a 4.1-mile radius of Arcata Airport.

Paragraph 6004 Class E Airspace Designated as an Extension to a Class D or Class E Surface Area.

* * * * *

AWP CA E4 Arcata, CA [New]

Arcata Airport, CA

(Lat. 40°58′40″ N., long. 124°06′31″ W.)

That airspace extending upward from the surface within 2.9 miles each side of the 153° bearing from Arcata Airport extending from the 4.1-mile radius to 10.5 miles southeast of the airport.

Paragraph 6005 Class E Airspace Areas Extending Upward From 700 Feet or More Above the Surface of the Earth.

* * * * *

AWP CA E5 Arcata, CA [Modified]

Arcata Airport, CA

(Lat. 40°58′40″ N., long. 124°06′31″ W.)

That airspace extending upward from 700 feet above the surface within a 7-mile radius of the Arcata Airport, and within 2.1 miles each side of the 153° bearing from the airport extending from the 7-mile radius to 14.1 miles southeast of the airport.

* * * * *

AWP CA E5 Eureka, CA [New]

Murray Field Airport, CA

(Lat. 40°48′12″ N., long. 124°06′46″ W.)

That airspace extending upward from 700 feet above the surface within a 6.3-mile radius of Murray Field Airport, and within 6.3 miles east of the Murray Field Airport 217° bearing extending from the 6.3-mile radius to 23 miles southwest of the airport.

* * * * *

AWP CA E5 Fortuna, CA [Modified]

Rohnerville Airport, CA

(Lat. 40°33′14″ N., long. 124°07′58″ W.)

That airspace extending upward from 700 feet above the surface within a 2.7 mile radius of Rohnerville Airport, and within 1.8 miles each side of the 326° bearing from the airport extending from the 2.7 mile radius to 7 miles northwest of the airport, and within 1.1-miles each side of the 307° bearing from the airport extending from the 2.7 mile radius to 5.2 miles west of the airport, and within 1.1-miles each side of the 113° bearing from the airport extending from the 2.7 mile radius to 6.1 miles southeast of the airport.

Issued in Seattle, Washington, on June 28, 2017.
Sam S.L. Shrimpton,
Acting Group Manager, Operations Support Group, Western Service Center.

[FR Doc. 2017-14219 Filed 7-6-17; 8:45 am]

BILLING CODE 4910-13-P